SOCIAL SECURITY ADMINISTRATION

Privacy Act of 1974, as Amended; New System of Records

AGENCY: Social Security Administration (SSA).

ACTION: Proposed new system of records and proposed routine uses.

SUMMARY: In accordance with the Privacy Act (5 U.S.C. 552a(e)(4) and (e)(11)), we are issuing public notice of our intent to establish a new system of records, entitled the Identity Management System, 60-0361, and routine uses applicable to this system of records. Hereinafter, we will refer to the proposed system of records as the IDMS system. We invite public comment on this proposal.

DATES: We filed a report of the proposed new IDMS system and proposed routine use disclosures with the Chairman of the Senate Committee on Homeland Security and Governmental Affairs, the Chairman of the House Committee on Government Reform, and the Director, Office of Information and Regulatory Affairs, Office of Management and Budget on October 26, 2006. The proposed IDMS system and proposed routine uses will become effective on December 5, 2006, unless we receive comments warranting them not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION: Contact Margo Wagner, Social Insurance Specialist, Disclosure Policy Team, Office of Public Disclosure, Office of the General Counsel, Social Security Administration, Room 3-A-6 Operations Building, 6401 Security Boulevard, Baltimore, Maryland 21235-6401, telephone: (410) 965-1482, e-mail: margo.wagner@ssa.gov.

SUPPLEMENTARY INFORMATION:

I. Background and Purpose of the Proposed IDMS System

A. General Background

On October 27, 2004, President Bush signed Homeland Security Presidential Directive-12 (HSPD-12), requiring all Federal agencies to implement a standard personal identity verification (PIV) card for use by individuals who require access Federal or federally controlled buildings and/or information systems in order to eliminate terrorist threats. HSPD-12 charges the Department of Commerce and the Office of Management and Budget to set standards and guidance for implementing the PIV cards.

In order to carry out our responsibilities under HSPD-12, SSA must issue PIV cards to all individuals who require regular, ongoing access to Agency facilities, information technology systems, or information classified in the interest of national security. These individuals include applicants for employment or contracts, Federal employees, contractors, students, interns, volunteers, affiliates, as well as individuals authorized to perform or use services provided in agency facilities (e.g., Credit Union, Fitness Center, etc.). To issue PIV cards, SSA must collect and maintain personal information about individuals to whom the Agency will issue a PIV card. We will maintain the information in the newly established IDMS system and retrieve the information from the system when needed by the Social Security number (SSN) or other unique identifier of the individual to whom the information pertains. Thus, the IDMS system will constitute a system of records under the Privacy Act.

B. Collection and Maintenance of the Data for the IDMS System

The information that SSA will collect and maintain in the IDMS system will consist of identifiable information (i.e., name, address, phone number, SSN) of individuals who require a PIV card. The “Categories of records” section of the notice of the IDMS system below contains a detailed description of the records that will be maintained in the IDMS system.

II. Proposed Routine Use Disclosures of Data Maintained in the Proposed IDMS System

A. Proposed Routine Use Disclosures

We are proposing to establish routine uses of information that will be maintained in the proposed IDMS system as discussed below.

1. To the Office of the President for the purpose of responding to an individual pursuant to an inquiry received from that individual or from a third party on his or her behalf.

We will disclose information under this routine use only in situations in which an individual may contact the Office of the President, seeking that office's assistance in a matter relating to information contained in this system of records. Information will be disclosed when the Office of the President makes an inquiry and indicates that it is acting on behalf of the individual whose record is requested.

2. To a congressional office in response to an inquiry from that office made at the request of the subject of a record.

We may disclose information under this routine use only in situations in which an individual may ask his or her congressional representative to intercede in a matter relating to information contained in this system of records. Information will be disclosed when the congressional representative makes an inquiry and indicates that he or she is acting on behalf of the individual whose record is requested.

3. To the Department of Justice (DOJ), a court or other tribunal, or another party before such tribunal when:

(a) The Social Security Administration (SSA), or any component thereof; or

(b) any SSA employee in his/her official capacity; or

(c) any SSA employee in his/her individual capacity where DOJ (or SSA where it is authorized to do so) has agreed to represent the employee; or

(d) the United States or any agency thereof where SSA determines that the litigation is likely to affect the operation of SSA or any of its components,

is a party to litigation or has an interest in such litigation, and SSA determines that the use of such records by DOJ, a court or other tribunal, or another party before such tribunal, is relevant and necessary to the litigation, provided, however, that in each case SSA determines that such disclosure is compatible with the purpose for which the records were collected.

We may disclose information under this routine use only as necessary to enable DOJ to effectively defend SSA, its components or employees in litigation involving this system of records and ensure that courts and other tribunals have appropriate information.

4. To student volunteers, individuals working under a personal services contract, and other individuals performing functions for SSA but technically not having the status of agency employees, if they need access to the records in order to perform their assigned agency functions.

Under certain Federal statutes, SSA is authorized to use the service of volunteers and participants in certain educational, training, employment, and community service programs. Examples of such statutes and programs include: 5 U.S.C. 3111 regarding student volunteers and 42 U.S.C. 2753 regarding the College Work-Study Program. We will disclose information under this routine use only when SSA uses the services of these individuals and they need access to information in this system to perform their assigned agency duties.

5. To the appropriate public authority whether a Federal, foreign, State, local or tribal agency, except as noted on Forms SF 85, 85-P, and 86, when a record on its face, or in conjunction with other records, indicates a violation or potential violation of law, whether civil, criminal, or regulatory in nature, and whether arising by general statute or particular program statute, or by regulation, rule, or order issued pursuant thereto, for enforcing, investigating or prosecuting such violation or charged with enforcing or implementing the statute, or rule, regulation, or order issued pursuant thereto, if the information disclosed is relevant to any enforcement, regulatory, investigative or prosecutorial responsibility of the receiving entity.

We may disclose information under this routine use except as noted on Forms SF 85, 85-P, and 86, when a record on its face, or in conjunction with other records, indicates a violation or potential violation of law under the authority of the requesting agency.

6. To a Federal, State, local, foreign, or tribal or other public authority the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative personnel or regulatory action.

We may disclose to the requesting agency the fact that this system of records contains information relevant to that agency's retention of an employee, the retention of a security clearance, the letting of a contract, or the issuance or retention of a license, grant, or other benefit. We will not disclose any other information to the agency without the written consent of the subject of the record.

7. To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

We may disclose information to the agencies and entities described in the routine use for the purpose of carrying out their responsibilities and activities under the authorities cited in the routine uses when information in this system of records is relevant to those responsibilities and activities.

8. To notify another Federal agency when, or verify whether, a PIV card is no longer valid.

We may disclose information under this routine use for the purpose cited so that individuals with invalid PIV cards may not use them to gain entry to Federal facilities.

9. To the Equal Employment Opportunity Commission when requested in connection with investigations into alleged or possible discriminatory practices in the Federal sector, examination of Federal affirmative employment programs, compliance by Federal agencies with the Uniform Guidelines on Employee Selection Procedures, or other functions vested in the Commission.

We may disclose information to the EEOC to assist in investigations into alleged or possible discriminatory practices in the Federal sector and for other functions vested in the Commission.

10. To the Federal Labor Relations Authority, the Office of the Special Counsel, the Federal Mediation and Conciliation Service, the Federal Service Impasses Panel, or an arbitrator when information is requested in connection with the investigations of allegations of unfair practices, matters before an arbitrator or the Federal Service Impasses Panel.

We may disclose information under this routine use, as necessary, to the Federal Labor Relations Authority, the General Counsel, the Federal Mediation and Conciliation Service, and the Federal Service Impasses Panel, or an arbitrator, when requested in connection with allegations of unfair labor practices, matters before an arbitrator or the Federal Service Impasses Panel.

11. To the Merit Systems Protection Board or the Office of Special Counsel in connection with appeals, special studies of the civil service and other merit systems, review of rules and regulations, investigation of alleged or possible prohibited personnel practices, and other such functions promulgated in 5 U.S.C. Chapter 12, or as may be authorized by law.

We will disclose information under this routine use, as necessary, to the Merit Systems Protection Board or the Office of Special Counsel when requested in matters pending before the Merit Systems Protection Board or the Office of Special Counsel.

12. To contractors and other Federal agencies, as necessary, for the purpose of assisting Social Security Administration (SSA) in the efficient administration of its programs. We will disclose information under this routine use only in situations in which SSA may enter a contractual or similar agreement with a third party to assist in accomplishing an agency function relating to this system of records.

SSA occasionally contracts out certain of its functions when this would contribute to effective and efficient operations. For example, this may include contractors, as authorized by 31 U.S.C. 3718, or Federal agencies that either operate debt collection centers or that will assist SSA in collecting debts through Federal salary, administrative, and tax refund offset as provided by 5 U.S.C. 3716 and § 3720A. SSA must be able to give a contractor or Federal agency whatever information SSA can legally provide in order for the contractor or Federal agency to fulfill its duties. In situations in which we use contractors, safeguards are provided in the contract prohibiting the contractor from using or disclosing the information for any purpose other than that described in the contract.

13. To Federal, State, and local law enforcement agencies and private security contractors, as appropriate, information necessary:

(a) To enable them to protect the safety of SSA employees and the public, the security of the SSA workplace, and the operation of SSA facilities; or

(b) to assist investigations or prosecutions with respect to activities that affect such safety and security or activities that disrupt the operation of SSA facilities.

We will disclose information under this routine use to law enforcement agencies and private security contractors when information is needed to respond to, investigate, or prevent, activities that jeopardize the security and safety of the public, employees or workplaces or that otherwise disrupt the operation of SSA facilities. Information would also be disclosed to assist in the prosecution of persons charged with violating a Federal, State or local law in connection with such activities.

14. To the National Archives and Records Administration or to the General Services Administration for records management inspections conducted under 44 U.S.C. 2904 and 2906.

The Administrator of GSA and the Archivist of NARA are charged by 44 U.S.C. 2904, as amended, with promulgating standards, procedures and guidelines regarding record management and conducting records management studies. 44 U.S.C. 2906, as amended, provides that GSA and NARA are to have access to Federal agencies' records and that agencies are to cooperate with GSA and NARA. In carrying out these responsibilities, it may be necessary for GSA and NARA to have access to this proposed system of records. In such instances, the routine use will facilitate disclosure.

B. Compatibility of Proposed Routine Uses

The Privacy Act (5 U.S.C. 552a(b)(3)) and our disclosure regulations (20 CFR Part 401) permits us to disclose information under a published routine use for a purpose that is compatible with the purpose for which we collected the information. Section 401.150(c) of the regulations permits us to disclose information under a routine use where necessary to carry out SSA programs. Section 401.120 of the regulations provides that we will disclose information when required by to do so by Federal law. Disclosures under routine uses numbered 1-13 will be made in connection with SSA's responsibilities concerning the IDMS system. Disclosures under routine use numbered 14 are required by Federal law. Thus, all routine uses are appropriate and meet the relevant statutory and regulatory criteria.

III. Record Storage Medium and Safeguards for the Information Maintained in the Proposed IDMS System

The proposed IDMS system will maintain information in electronic and manual forms. Only authorized SSA and contractor personnel who have a need for the information in the performance of their official duties are permitted access to the information. We will safeguard the security of the information by requiring the use of access codes to enter the computer system that will maintain the data and will store computerized records in secured areas that are accessible only to employees who require the information in performing their official duties. Manually maintained records are kept in locked cabinets or in otherwise secure areas.

All SSA personnel receive annual reminders of the need to protect personal data to which they have access for official purposes and are reminded of the criminal penalties that apply to unauthorized access to or disclosure of personal information. See 5 U.S.C. 52a(i)(1). Furthermore, SSA employees having access to SSA databases maintaining personal information must sign a sanction document annually, acknowledging their accountability for making unauthorized access to or disclosure of such information.

Contractor personnel having access to data in the proposed IDMS system will be required to adhere to SSA rules concerning safeguards, access and use of the data.

IV. Effect of the Proposed IDMS System on the Rights of Individuals

The proposed IDMS system will consist of information that is relevant to establishing PIV cards for SSA employees and contractors. SSA will adhere to all applicable provisions of the Privacy Act and other applicable Federal statutes that govern our use and disclosure of the information that will be maintained in the proposed IDMS system. Therefore, we do not anticipate that the proposed IDMS system will have any unwarranted adverse effect on the privacy or other rights of individuals.

Dated: October 26, 2006.
Jo Anne B. Barnhart,
Commissioner.

Social Security Administration; Notice of System of Records; Required by the Privacy Act of 1974

System number:

60-0361.

System name:

Identity Management System (IDMS).

Security classification:

None.

System location:

National Computer Center, Social Security Administration (SSA), 6201 Security Boulevard, Baltimore, MD 21235. Some data covered by this system are at SSA locations, both Federal buildings and federally-leased space, where staffed guard stations have been established in facilities that have installed the Personal Identity Verification (PIV) system, as well as the physical security office(s) or computer security office(s) of those locations. Contact the systems manager at the address below for the addresses of these locations.

Categories of individuals covered by the system:

Individuals who require regular, ongoing access to Agency facilities, information technology systems, or information classified in the interest of national security, including applicants for employment or contracts, Federal employees, contractors, students, interns, volunteers, affiliates, and individuals formerly in any of these positions. The system also includes individuals authorized to perform or use services provided in Agency facilities (e.g., Credit Union, Fitness Center, etc.)

The system does not apply to occasional visitors or short-term guests to whom SSA will issue temporary identification and credentials.

Categories of records in the system:

Records maintained on individuals issued credentials by SSA include the following data fields: full name, Social Security number (SSN); date of birth; signature; image (photograph); fingerprints; hair color; eye color; height; weight; organization/office of assignment; company name; telephone number; copy of background investigation form; PIV card issue and expiration dates; personal identification number (PIN); results of background investigation; PIV request form; PIV registrar approval signature; PIV card serial number; emergency responder designation; copies of documents used to verify identification or information derived from those documents such as document title, document issuing authority, document number, document expiration date, document other information; level of national security clearance and expiration date; computer system user name; user access and permission rights, authentication certificates; and digital signature information.

Records maintained on card holders entering SSA facilities or using SSA systems include: name, PIV Card serial number; date, time, and location of entry and exit; company name; level of national security clearance and expiration date; fingerprints; digital signature information; computer networks/applications/data accessed.

Authority for maintenance of the system:

5 U.S.C. 301; Federal Information Security Act (Pub. L. 104-106, section 5113); Electronic Government Act (Pub. L. 104-347, section 203); the Paperwork Reduction Act of 1995 (44 U.S.C. 3501); and the Government Paperwork Elimination Act (P.L. 105-277, 44 U.S.C. 3504); Homeland Security Presidential Directive (HSPD) 12, Policy for a Common Identification Standard for Federal Employees and Contractors, August 27, 2004; Federal Property and Administrative Act of 1949, as amended.

Purpose:

The primary purposes of the system are: (a) To ensure the safety and security of SSA facilities, systems, or information, and its'occupants and users; (b) to verify that all persons entering Federal facilities, using Federal information resources, are authorized to do so; and (c) to track and control PIV cards issued to persons entering and exiting the facilities or using systems.

Note: Disclosures within SSA of data obtained from the IDMS that pertain to date and time of entry and exit of an agency employee working in the District of Columbia may not be made to supervisors, managers or any other persons (other than the individual to whom the information applies) to verify employee time and attendance records for personnel actions because 5 U.S.C. 6106 prohibits Federal Executive agencies (other than the Bureau of Engraving and Printing) from using a recording clock within the District of Columbia, unless used as a part of a flexible schedule program under 5 U.S.C. 6120 et seq.

Routine uses of records maintained in the system, including categories of users and the purposes of such uses:

Information may be disclosed for routine uses as indicated below:

1. To the Office of the President for the purpose of responding to an individual pursuant to an inquiry received from that individual or from a third party on his or her behalf.

2. To a congressional office in response to an inquiry from that office made at the request of the subject of a record.

3. To the Department of Justice (DOJ), a court or other tribunal, or another party before such tribunal when:

(a) The Social Security Administration (SSA), or any component thereof; or

(b) any SSA employee in his/her official capacity; or

(c) any SSA employee in his/her individual capacity where DOJ (or SSA where it is authorized to do so) has agreed to represent the employee; or

(d) the United States or any agency thereof where SSA determines that the litigation is likely to affect the operation of SSA or any of its components, is a party to litigation or has an interest in such litigation, and SSA determines that the use of such records by DOJ, a court or other tribunal, or another party before such tribunal, is relevant and necessary to the litigation, provided, however, that in each case SSA determines that such disclosure is compatible with the purpose for which the records were collected.

4. To student volunteers, individuals working under a personal services contract, and other individuals performing functions for SSA but technically not having the status of agency employees, if they need access to the records in order to perform their assigned agency functions.

5. To the appropriate public authority whether a Federal, foreign, State, local or tribal agency, except as noted on Forms SF 85, 85-P, and 86, when a record on its face, or in conjunction with other records, indicates a violation or potential violation of law, whether civil, criminal, or regulatory in nature, and whether arising by general statute or particular program statute, or by regulation, rule, or order issued pursuant thereto, for enforcing, investigating or prosecuting such violation or charged with enforcing or implementing the statute, or rule, regulation, or order issued pursuant thereto, if the information disclosed is relevant to any enforcement, regulatory, investigative or prosecutorial responsibility of the receiving entity.

6. To a Federal State, local, foreign, or tribal or other public authority the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative personnel or regulatory action.

7. To a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

8. To notify another Federal agency when, or verify whether, a PIV card is no longer valid.

9. To the Equal Employment Opportunity Commission when requested in connection with investigations into alleged or possible discriminatory practices in the Federal sector, examination of Federal affirmative employment programs, compliance by Federal agencies with the Uniform Guidelines on Employee Selection Procedures, or other functions vested in the Commission.

10. To the Federal Labor Relations Authority, the Office of the Special Counsel, the Federal Mediation and Conciliation Service, the Federal Service Impasses Panel, or an arbitrator when information is requested in connection with the investigations of allegations of unfair practices, matters before an arbitrator or the Federal Service Impasses Panel.

11. To the Merit Systems Protection Board or the Office of Special Counsel in connection with appeals, special studies of the civil service and other merit systems, review of rules and regulations, investigation of alleged or possible prohibited personnel practices, and other such functions promulgated in 5 U.S.C. Chapter 12, or as may be authorized by law.

12. To contractors and other Federal agencies, as necessary, for the purpose of assisting Social Security Administration (SSA) in the efficient administration of its programs. We will disclose information under this routine use only in situations in which SSA may enter a contractual or similar agreement with a third party to assist in accomplishing an agency function relating to this system of records.

13. To Federal, State, and local law enforcement agencies and private security contractors, as appropriate, information necessary: (a) To enable them to protect the safety of SSA employees and the public, the security of the SSA workplace, and the operation of SSA facilities; or (b) to assist investigations or prosecutions with respect to activities that affect such safety and security or activities that disrupt the operation of SSA facilities.

14. To the National Archives and Records Administration or to the General Services Administration for records management inspections conducted under 44 U.S.C. 2904 and 2906.

Policies and practices for storing, retrieving, accessing, retaining and disposing of records in the system:

Storage:

Records are stored in electronic media and in paper files.

Retrievability:

Records are retrievable by name, SSN, other ID number, PIV card serial number, image (photograph), fingerprint.

Safeguards:

Paper records are kept in locked cabinets in secure facilities and access to them is restricted to individuals whose role requires use of the records. The computer servers in which records are stored are located in a secure environment within SSA's National Computer Center and are secured by alarm systems and off-master key access. The computer servers themselves are password-protected. Access to individuals working at guard stations is password-protected; each person granted access to the system at guard stations must be individually authorized to use the system. A Privacy Act Warning Notice appears on the monitor screen when records containing information on individuals are first displayed. Data exchanged between the servers' and the clients' personal computers at the guard stations and badging office are encrypted. Backup tapes are stored in a locked and controlled room in a secure, off-site location.

An audit trail is maintained and reviewed periodically to identify unauthorized access. Persons given roles in the PIV process must complete training specific to their roles to ensure they are knowledgeable about how to protect individually identifiable information.

Retention and disposal:

Records relating to persons' access covered by this system are retained in accordance with General Records Schedule (GRS) 18, Item 17 approved by the National Archives and Records Administration (NARA). Records will be maintained indefinitely until NARA approves an Agency disposition schedule for these records.

All other records relating to individuals under this system are retained and disposed of in accordance with GRS 18, item 22a, approved by NARA. Records are destroyed upon notification of death or not later than five years after separation or transfer of employee, whichever is applicable or no later than 5 years after a contractual relationship expires, whichever is applicable.

In accordance with HSPD-12, PIV cards are deactivated within 18 hours of cardholder separation, loss of card, or expiration. The information on PIV cards is maintained in accordance with GRS 11, Item 4. PIV cards are destroyed by cross-cut shredding no later than 90 days after deactivation.

System manager(s) and address:

HSPD-12 Project Manager, SSA, Room 1300 Dunleavy Bldg., 1508 Woodlawn Drive, Baltimore, MD 21235.

Notification procedures:

An individual can determine if this system contains a record pertaining to him/her by sending a signed, written request to the system manager at the above address. When requesting notification of or access to records covered by this Notice, an individual should provide his/her full name, date of birth, Agency name, and work location. An individual requesting notification of records in person must provide identity documents sufficient to satisfy the custodian of the records that the requester is entitled to access, such as a government-issued photo ID. Individuals requesting notification via mail or telephone must furnish, at minimum, name, date of birth, SSN, and home address in order to establish identity. These procedures are in accordance with SSA Regulations (20 CFR 401.40(c)).

Records access procedures:

Same as notification procedures. Requesters should also reasonably specify the record contents being sought. These procedures are in accordance with SSA Regulations (20 CFR 401.40(c)). If additional information or assistance is required, contact the system manager at the above address. SSA may withhold from a record in this system of records from access by the subject of the record pursuant to subsection (d)(5) of the Privacy Act (5 U.S.C. 552a(d)(5)) in certain situations (e.g, a record that may relate to a civil action or proceeding).

Contesting record procedures:

Same as notification procedures. Requesters should also reasonably identify the record, specify the information they are contesting, state the corrective action sought and the reasons for the correction along with supporting justification showing why the record is not accurate, timely, relevant, or complete. These procedures are in accordance with SSA Regulations (20 CFR 401.40(c)). If additional information or assistance is required, contact the system manager at the above address.

Record source categories:

Employee, contractor, or applicant; sponsoring agency; former sponsoring agency; other Federal agencies; contract employer; former employer.

System exempted from certain provisions of the Privacy Act:

None.

[FR Doc. E6-18549 Filed 11-2-06; 8:45 am]

BILLING CODE 4191-02-P